DEPARTMENT OF ENERGY

Federal Energy Regulatory Commission

Notice of Commissioner and Staff Attendance at the National Association of Regulatory Utility Commissioners Summer Committee Meetings

The Federal Energy Regulatory Commission (Commission) hereby gives notice that members of the Commission and/or Commission staff may attend the 2016 National Association of Regulatory Utility Commissioners Summer Committee Meetings, including the following:

General Session—July 25, 2016, 8:30 a.m.-10:30 a.m. (CDT)

Committee on Electricity Meeting—July 25, 2016, 10:45 a.m.-5 p.m. (CDT)

Committee on Electricity Meeting—July 26, 2016, 10:45 a.m.-5:15 p.m. (CDT)

The above-referenced meetings will be held at: Omni Nashville Hotel, 250 Fifth Avenue South, Nashville, TN 37203.

Further information may be found at http://naruc.org/summermeetings/.

The discussions at the meetings described above may address matters at issue in the following proceedings:

Docket No. ER10-1453, FirstEnergy Generation Mansfield Unit 1 Corp.

Docket No. ER10-1459, FirstEnergy Solutions Corp.

Docket No. ER10-1467, Ohio Edison Company

Docket No. ER10-1468, Toledo Edison Company

Docket No. ER10-1469, Cleveland Electric Illuminating Company

Docket No. ER13-713, FirstEnergy Nuclear Generation, LLC

Docket No. ER13-785, FirstEnergy Generation, LLC

Docket No. ER13-1874, American Electric Power Service Corporation

Docket No. ER13-1896, AEP Generation Resources Inc.

Docket No. ER14-95, American Electric Power Service Corporation

Docket No. ER14-594, Ohio Power Company

Docket No. ER14-1639, ISO New England Inc.

Docket No. ER16-120, New York Independent System Operator, Inc.

Docket No. ER16-1404, New York Independent System Operator, Inc.

Docket No. ER16-1649, California Independent System Operator Corporation

Docket No. ER16-1807, FirstEnergy Solutions Corp.

Docket No. EL13-62, Independent Power Producers of New York, Inc., v. New York Independent System Operator, Inc.

Docket No. EL16-49, Calpine Corporation, et al. v. PJM Interconnection, L.L.C.

Docket No. EL16-93, NextEra Energy Resources, LLC and PSEG Companies v. ISO New England Inc.

For more information, contact Sandra Waldstein, Office of External Affairs, Federal Energy Regulatory Commission at (202) 502-8092 or sandra.waldstein@ferc.gov.

Dated: July 22, 2016.
Nathaniel J. Davis, Sr.,
Deputy Secretary.

[FR Doc. 2016-17878 Filed 7-27-16; 8:45 am]

BILLING CODE 6717-01-P